DEPARTMENT OF ENERGY

Federal Energy Regulatory Commission

[Docket No. RP91-143-053]

Great Lakes Gas Transmission Limited Partnership; Notice of Revenue Sharing Report, November 2001-October 2002

January 15, 2003.

Take notice that on January 10, 2003, Great Lakes Gas Transmission Limited Partnership (Great Lakes) filed its Interruptible/Overrun (I/O) Revenue Sharing Report with the Commission in accordance with the Stipulation and Agreement (Settlement) filed on September 24, 1992, and approved by the Commission's February 3, 1993 order issued in Docket No. RP91-143-000, et al.

Great Lakes states that this report reflects application of the revenue sharing mechanism and remittances made to firm shippers for I/O revenue collected for the November 1, 2001, through October 31, 2002, period, in accordance with article IV of the Settlement. Great Lakes states that such remittances, totaling $18,780, were made to Great Lakes' firm shippers as shown in the schedules included in the filing.

Great Lakes further states the amounts remitted are based on implementation of the Commission's orders in Docket Nos. RP91-143, RS92-63 and RP95-422, et al.

Great Lakes states that copies of the report were sent to its firm customers, parties to this proceeding and the Public Service Commissions of Minnesota, Wisconsin and Michigan.

Any person desiring to protest said filing should file a protest with the Federal Energy Regulatory Commission, 888 First Street, NE., Washington, DC 20426, in accordance with section 385.211 of the Commission's rules and regulations. All such protests must be filed on or before the comment date. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. Comments, protests and interventions may be filed electronically via the Internet in lieu of paper. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Comment date: January 22, 2003.

Magalie R. Salas,
Secretary.

[FR Doc. 03-1737 Filed 1-24-03; 8:45 am]

BILLING CODE 6717-01-P